DEPARTMENT OF COMMERCE

National Oceanic and Atmospheric Administration

15 CFR Part 922

[Docket No. 0908201245-0217-01]

RIN 0648-AY20

Gulf of the Farallones, Monterey Bay and Cordell Bank National Marine Sanctuaries Technical Corrections

AGENCY: Office of National Marine Sanctuaries (ONMS), National Oceanic and Atmospheric Administration (NOAA), Department of Commerce (DOC).

ACTION: Final rule; technical correction.

SUMMARY: On November 20, 2008, the National Oceanic and Atmospheric Administration (NOAA) published a final rule in the Federal Register for the Gulf of the Farallones, Monterey Bay and Cordell Bank national marine sanctuaries (referred to jointly as the joint management plan review or JMPR). Some sets of coordinates in that final rule contained technical errors or omissions that need to be corrected for the zones to be properly mapped. Other minor corrections are also included in this rule.

DATES: Effective Date: This final rule is effective on September 1, 2010.

Implementation Dates: With regard to the corrections to the coordinate tables, implementation of this final rule begins on October 1, 2010. With regard to the other corrections, implementation of this final rule begins September 1, 2010.

FOR FURTHER INFORMATION CONTACT: John Armor, Office of National Marine Sanctuaries, 1305 East-West Highway, Silver Spring, MD 20910, or by phone at 301-713-3125.

SUPPLEMENTARY INFORMATION:

I. Background

NOAA established the Gulf of the Farallones National Marine Sanctuary (GFNMS) in 1981 to protect and preserve a unique and fragile ecological community, including the largest seabird colony in the contiguous United States, and diverse and abundant marine mammals. The GFNMS lies off the coast of California, to the west and north of San Francisco, and is composed of 1,279 square statute miles (966 square nautical miles) of offshore waters, and the submerged lands thereunder, extending out to and around the Farallon Islands and nearshore waters (up to the mean high tide line) from Bodega Head to Rocky Point in Marin. For more information about the GFNMS, see http://farallones.noaa.gov.

NOAA established the Monterey Bay National Marine Sanctuary (MBNMS) in 1992 for the purposes of protecting and managing the conservation, ecological, recreational, research, educational, historical, and esthetic resources and qualities of the area. The MBNMS is located offshore of California's central coast, adjacent to and south of the GFNMS. It encompasses a shoreline length of approximately 276 statute miles (240 nmi) between Rocky Pt. in Marin County and Cambria in San Luis Obispo County. The sanctuary spans approximately 6,094 square statute miles (4,602 square nautical miles) of ocean and coastal waters, and the submerged lands thereunder, extending an average distance of 30 statute miles (26 nmi) from shore. The distant Davidson Seamount is also part of the sanctuary, though it does not share a contiguous boundary. Supporting some of the world's most diverse marine ecosystems, the MBNMS is home to numerous mammals, seabirds, fishes, invertebrates, sea turtles and plants in a remarkably productive coastal environment. For more information about the MBNMS, please see http://montereybay.noaa.gov.

NOAA established the Cordell Bank National Marine Sanctuary (CBNMS) in 1989 to protect and preserve the extraordinary ecosystem, including marine birds, mammals, and other natural resources of Cordell Bank and its surrounding waters. The CBNMS protects an area of 529 square statute miles (399 square nautical miles) of marine waters, and the submerged lands thereunder, off the northern California coast. The main feature of the sanctuary is Cordell Bank, an offshore granite bank located on the edge of the continental shelf, about 23 statute miles (20 nmi) west of the Point Reyes lighthouse. The CBNMS is entirely offshore and shares its southern and eastern boundary with the GFNMS. The western boundary is the 1000 fathom isobath on the edge of the continental slope. The CBNMS is located in one of the world's four major coastal upwelling systems. The combination of oceanic conditions and undersea topography provides for a highly productive environment in a discrete, well-defined area. For more information about the CBNMS, please see http://cordellbank.noaa.gov.

Pursuant to section 304(e) of the National Marine Sanctuaries Act (16 U.S.C. 1434 et seq.) (NMSA), the Office of National Marine Sanctuaries (ONMS) conducted a joint review of the management plans for the Gulf of the Farallones, Monterey Bay and Cordell Bank national marine sanctuaries between 2001 and 2008. This review resulted in revised management plans, regulations, and terms of designation for all three sanctuaries. On November 20, 2008, NOAA published the associated final rule and terms of designation (73 FR 70488) and released the revised management plans.

II. Technical Corrections

In the November 20, 2008 Federal Register notice, NOAA published the coordinates for the outer boundary of GFNMS and certain zones within the outer boundary. Both sets of coordinates contained technical omissions that need to be corrected so that the digital representation of these boundaries on a map would more accurately represent the boundaries as they are described in the language of the rule.

The outer boundary coordinate table for GFNMS (Appendix A) published on November 20, 2008 did not contain the final coordinate of the shoreward point. Through this action, NOAA is making a technical correction by reprinting the outer boundary table in Appendix A in its entirety, with the omitted coordinate, point 32. With this correction, from Point 31, the boundary follows the MBNMS boundary northeastward in a geodetic line towards Point 32 (37.88225N and 122.62753W) until it intersects the mean high water line (MHWL). Because the southern boundary of the GFNMS is the same as the northern boundary for the MBNMS, NOAA is also reprinting the boundary coordinates for the MBNMS (Appendix A for part M of section 922) with this same point (point 32) replacing the existing Point 1 with the same coordinate listed above (37.88225N and 122.62753W). Additional points were changed to correct for a non-stationary intersection of the transient MHWL and the lines connecting offshore and onshore points, and therefore required several points to be moved shoreward, including: Point 35 (35.55483N and 121.10399W), Point 36 (37.59421N and 122.52001W), and Point 39 (37.81777N and 122.53008W). These corrections do not alter the existing boundaries of either sanctuary, but rather provide data points that facilitate the correct depiction of the boundaries as defined by the rule when the points are mapped.

The November 20, 2008 final rule also included a provision to prohibit vessels from anchoring in designated seagrass protection zones in Tomales Bay (with an exception for mariculture operations conducted pursuant to a valid lease, permit, or license). This prohibition was designed to protect the important and fragile seagrass found in several areas of Tomales Bay from the effects of vessel anchor damage. In publishing the boundary coordinates for two of the seven seagrass protection zones, NOAA omitted points that made accurate mapping difficult. NOAA erroneously omitted one point in the table for Zone 2 and one coordinate in the table for Zone 4. As such, NOAA is republishing the coordinate tables for zones 2 and 4 to allow accurate GPS plotting. Inclusion of these previously missing data points does not change the boundaries of either protection zone established in the final rule but rather allows the boundaries of these zones to be correctly delineated on a map.

The final rule in 2008 also inadvertently failed to expressly except from the discharge requirements applicable to cruise ships “vessel engine or generator exhaust” emitted in order to operate the ship. Through this rule, NOAA is correcting this omission by explicitly excepting from the discharge requirements for cruise ships vessel engine or generator exhaust.

This action does not change the intent of the final rule. Historically, cruise ships have regularly transited through the sanctuaries. Given their means of propulsion, cruise ships must discharge vessel engine and generator exhaust to operate. In recognition of this, regulations in place prior to this rule-making specifically authorized the discharge of vessel exhaust from all types of vessels, including cruise ships. As is evident from the 2006 proposed rules, the 2008 final rule and Final Environmental Impact Statement (FEIS) associated with the rule-making, NOAA's intent was to allow the continued operation of cruise ships within sanctuaries, but subject to greater limitations on certain discharges or deposits, particularly sewage and graywater. Indeed, both the proposed and final rules specifically allow cruise ships to discharge clean engine cooling water, which is produced incidental to vessel operations. Absent an exception for engine and generator exhaust, which under the final rule remains expressly permissible to all other vessels that operate within the sanctuaries, the rule would inadvertently ban all cruise ships from operating in the sanctuaries.

The final rule in 2008 contained an erroneous and possibly confusing duplication in the description of Appendix B to Subpart M for the MBNMS Overflight Restriction Zones. The description as it is currently written in paragraphs 1 and 2 includes both the words “heading” and “bearing.” NOAA is correcting this error by eliminating the word “heading” from each description. The revised Appendix B to Subpart M is printed with the corrections in the regulatory text below.

Last, the final rule contained the redundant use of the word “true” in the Mavericks motorized personal watercraft (MPWC) zone description in Appendix E to Subpart M for the MBNMS—Motorized Personal Watercraft Zones and Access Routes Within the Sanctuary. NOAA is correcting this error and removing the redundant words in paragraphs 2 and 5 under this heading. The revised Appendix E to Subpart M is printed with the corrections in the regulatory text below.

III. Classification

A. Administrative Procedure Act

The Acting Assistant Administrator finds good cause pursuant to 5 U.S.C. 553(b)(B) and (d)(3), respectively, to waive the requirements of public notice and comment and 30-day delay in effectiveness because they are unnecessary. This rule makes technical non-substantive corrections to errors in the regulations of November 20, 2008 to clarify the intent of that rule. The intent of the final rule published in 2008 is not affected by these corrections. With regard to the corrections to the coordinate tables, implementation of this final rule will not begin until October 1, 2010 in order to give the public reasonable time to take note of the mapping refinements.

B. National Environmental Policy Act

NOAA prepared a final environmental impact statement (FEIS) to evaluate the regulatory changes for the JMPR. This rule does not change that assessment, as this rule contains strictly technical corrections and does not change the intent of the original regulations.

C. Executive Order 12866: Regulatory Impact

This regulatory action has been determined to be not significant within the meaning of Executive Order 12866.

D. Executive Order 13132: Federalism Assessment

NOAA has concluded that this regulatory action does not fall within the definition of “policies that have federalism implications” within the meaning of Executive Order 13132. The changes will not preempt State law.

E. Regulatory Flexibility Act

Because notice and opportunity for comment are not required for this action pursuant to 5 U.S.C. 553 or any other law, the analytical requirements of the Regulatory Flexibility Act (5 U.S.C. 601 et seq.) are inapplicable. Therefore, a regulatory flexibility analysis is not required and has not been prepared.

F. Paperwork Reduction Act

This correction amendment does not contain information collections that are subject to the requirements of the Paperwork Reduction Act. Notwithstanding any other provision of the law, no person is required to respond to, nor shall any person be subject to a penalty for failure to comply with, a collection of information subject to the requirements of the PRA, unless that collection of information displays a currently valid OMB Control Number.

List of Subjects in 15 CFR Part 922

Administrative practice and procedure, Boundary coordinates, Harbors, Motorized personal watercraft (MPWC), Recreation and recreation areas, Research, Seagrass protection, Water resources, Wildlife, Zones.

Dated: August 19, 2010.
Holly Bamford,
Acting Deputy Assistant Administrator for Ocean Services and Coastal Zone Management.

Accordingly, for the reasons set forth above, 15 CFR part 922 is amended as follows:

PART 922—NATIONAL MARINE SANCTUARY PROGRAM REGULATIONS

1. The authority citation for part 922 continues to read as follows:

Authority: 16 U.S.C. 1431 et seq.

2. Amend section 922.82 by revising paragraph (a)(3) to read as follows:

§ 922.82 Prohibited or otherwise regulated activities.

(a) * * *

(3) Discharging or depositing from within or into the Sanctuary any material or other matter from a cruise ship except clean vessel engine cooling water, clean vessel generator cooling water, vessel engine or generator exhaust, clean bilge water, or anchor wash.

* * * * *

3. Appendix A to Subpart H of Part 922 is revised to read as follows:

Appendix A to Subpart H of Part 922—Gulf of the Farallones National Marine Sanctuary Boundary Coordinates

Coordinates listed in this Appendix are unprojected (Geographic) and based on the North American Datum of 1983.

Point ID No. Sanctuary Boundary | Latitude | Longitude
1 | 38.29896 | −123.05989
2 | 38.26390 | −123.18138
3 | 38.21001 | −123.11913
4 | 38.16576 | −123.09207
5 | 38.14072 | −123.08237
6 | 38.12829 | −123.08742
7 | 38.10215 | −123.09804
8 | 38.09069 | −123.10387
9 | 38.07898 | −123.10924
10 | 38.06505 | −123.11711
11 | 38.05202 | −123.12827
12 | 37.99227 | −123.14137
13 | 37.98947 | −123.23615
14 | 37.95880 | −123.32312
15 | 37.90464 | −123.38958
16 | 37.83480 | −123.42579
17 | 37.76687 | −123.42694
18 | 37.75932 | −123.42686
19 | 37.68892 | −123.39274
20 | 37.63356 | −123.32819
21 | 37.60123 | −123.24292
22 | 37.59165 | −123.22641
23 | 37.56305 | −123.19859
24 | 37.52001 | −123.12879
25 | 37.50819 | −123.09617
26 | 37.49418 | −123.00770
27 | 37.50948 | −122.90614
28 | 37.52988 | −122.85988
29 | 37.57147 | −122.80399
30 | 37.61622 | −122.76937
31 | 37.66641 | −122.75105
32 | 37.88225 | −122.62753

4. Table C-2 and table C-4 in Appendix C to Subpart H of Part 922 are revised and Appendix C is republished in its entirety, with the aforementioned revisions, to read as follows:

Appendix C to Subpart H of Part 922—No-Anchoring Seagrass Protection Zones in Tomales Bay

Coordinates listed in this appendix are unprojected (Geographic) and based on the North American Datum of 1983.

Table C-1: Zone 1:

Zone 1 is an area of approximately 39.9 hectares offshore south of Millerton Point. The eastern boundary is a straight line that connects points 1 and 2 listed in the coordinate table below. The southern boundary is a straight line that connects points 2 and 3, the western boundary is a straight line that connects points 3 and 4 and the northern boundary is a straight line that connects point 4 to point 5. All coordinates are in the Geographic Coordinate System relative to the North American Datum of 1983.

Zone 1 Point ID | Latitude | Longitude
1 | 38.10571 | −122.84565
2 | 38.09888 | −122.83603
3 | 38.09878 | −122.84431
4 | 38.10514 | −122.84904
5 | Same as 1. | Same as 1.

Table C-2: Zone 2:

Zone 2 is an area of approximately 50.3 hectares that begins just south of Marconi and extends approximately 3 kilometers south along the eastern shore of Tomales Bay. The eastern boundary is the mean high water (MHW) line from point 1 to point 2 listed in the coordinate table below. The southern boundary is a straight line that connects point 2 to point 3. The western boundary is a series of straight lines that connect points 3 through 7 in sequence and then connects point 7 to point 8. All coordinates are in the Geographic Coordinate System relative to the North American Datum of 1983.

Zone 2 Point ID | Latitude | Longitude
1 | 38.14071 | −122.87440
2 | 38.11601 | −122.85820
3 | 38.11386 | −122.85851
4 | 38.11899 | −122.86731
5 | 38.12563 | −122.86480
6 | 38.12724 | −122.86488
7 | 38.13326 | −122.87178
8 | Same as 1. | Same as 1.

Table C-3: Zone 3:

Zone 3 is an area of approximately 4.6 hectares that begins just south of Marshall and extends approximately 1 kilometer south along the eastern shore of Tomales Bay. The eastern boundary is the mean high water (MHW) line from point 1 to point 2 listed in the coordinate table below. The southern boundary is a straight line that connects point 2 to point 3, the western boundary is a straight line that connects point 3 to point 4, and the northern boundary is a straight line that connects point 4 to point 5. All coordinates are in the Geographic Coordinate System relative to the North American Datum of 1983.

Zone 3 Point ID | Latitude | Longitude
1 | 38.16031 | −122.89442
2 | 38.15285 | −122.88991
3 | 38.15250 | −122.89042
4 | 38.15956 | −122.89573
5 | Same as 1. | Same as 1.

Table C-4: Zone 4:

Zone 4 is an area of approximately 61.8 hectares that begins just north of Nicks Cove and extends approximately 5 kilometers south along the eastern shore of Tomales Bay to just south of Cypress Grove. The eastern boundary is the mean high water (MHW) line from point 1 to point 2 listed in the coordinate table below. The southern boundary is a straight line that connects point 2 to point 3. The western boundary is a series of straight lines that connect points 3 through 10 in sequence. The northern boundary is a straight line that connects point 10 to point 11. All coordinates are in the Geographic Coordinate System relative to the North American Datum of 1983.

Zone 4 Point ID | Latitude | Longitude
1 | 38.20073 | −122.92181
2 | 38.16259 | −122.89627
3 | 38.16227 | −122.89650
4 | 38.16535 | −122.90308
5 | 38.16869 | −122.90475
6 | 38.17450 | −122.90545
7 | 38.17919 | −122.91021
8 | 38.18651 | −122.91404
9 | 38.18881 | −122.91740
10 | 38.20004 | −122.92315
11 | Same as 1. | Same as 1.

Table C-5: Zone 5:

Zone 5 is an area of approximately 461.4 hectares that begins east of Lawsons Landing and extends approximately 5 kilometers east and south along the eastern shore of Tomales Bay but excludes areas adjacent (approximately 600 meters) to the mouth of Walker Creek. The boundary follows the mean high water (MHW) mark from point 1 and trends in a southeast direction to point 2 listed in the coordinate table below. From point 2 the boundary trends westward in a straight line to point 3, then trends southward in a straight line to point 4 and then trends eastward in a straight line to point 5. The boundary follows the mean high water line from point 5 southward to point 6. The southern boundary is a straight line that connects point 6 to point 7. The eastern boundary is a series of straight lines that connect points 7 to 9 in sequence and then connects point 9 to point 10. All coordinates are in the Geographic Coordinate System relative to the North American Datum of 1983.

Zone 5 Point ID | Latitude | Longitude
1 | 38.23122 | −122.96300
2 | 38.21599 | −122.93749
3 | 38.20938 | −122.94153
4 | 38.20366 | −122.93246
5 | 38.20515 | −122.92453
6 | 38.20073 | −122.92181
7 | 38.19405 | −122.93477
8 | 38.20436 | −122.94305
9 | 38.21727 | −122.96225
10 | Same as 1. | Same as 1.

Table C-6: Zone 6:

Zone 6 is an area of approximately 3.94 hectares in the vicinity of Indian Beach along the western shore of Tomales Bay. The western boundary follows the mean high water (MHW) line from point 1 northward to point 2 listed in the coordinate table below. The northern boundary is a straight line that connects point 2 to point 3. The eastern boundary is a straight line that connects point 3 to point 4. The southern boundary is a straight line that connects point 4 to point 5. All coordinates are in the Geographic Coordinate System relative to the North American Datum of 1983.

Zone 6 Point ID | Latitude | Longitude
1 | 38.13811 | −122.89603
2 | 38.14040 | −122.89676
3 | 38.14103 | −122.89537
4 | 38.13919 | −122.89391
5 | Same as 1. | Same as 1.

Table C-7: Zone 7:

Zone 7 is an area of approximately 32.16 hectares that begins just south of Pebble Beach and extends approximately 3 kilometers south along the western shore of Tomales Bay. The western boundary is the mean high water (MHW) line from point 1 to point 2 listed in the coordinate table below. The northern boundary is a straight line that connects point 2 to point 3. The eastern boundary is a series of straight lines that connect points 3 through 7 in sequence. The southern boundary is a straight line that connects point 7 to point 8. All coordinates are in the Geographic Coordinate System relative to the North American Datum of 1983.

Zone 7 Point ID | Latitude | Longitude
1 | 38.11034 | −122.86544
2 | 38.13008 | −122.88742
3 | 38.13067 | −122.88620
4 | 38.12362 | −122.87984
5 | 38.11916 | −122.87491
6 | 38.11486 | −122.86896
7 | 38.11096 | −122.86468
8 | Same as 1. | Same as 1.

5. Amend section 922.112 by revisng paragraph (a)(1)(ii) to read as follows:

§ 922.112 Prohibited or otherwise regulated activities.

(a) * * *

(1) * * *

(ii) Discharging or depositing from within or into the Sanctuary any material or other matter from a cruise ship except clean vessel engine cooling water, clean vessel generator cooling water, vessel engine or generator exhaust, clean bilge water, or anchor wash.

* * * * *

6. Amend section 922.132 by revising paragraph (a)(2)(ii) to read as follows:

§ 922.132 Prohibited or otherwise regulated activities.

(a) * * *

(2) * * *

(ii) Discharging or depositing from within or into the Sanctuary any material or other matter from a cruise ship except clean vessel engine cooling water, clean vessel generator cooling water, vessel engine or generator exhaust, clean bilge water, or anchor wash.

* * * * *

7. Appendix A to Subpart M of Part 922 is revised to read as follows:

Appendix A to Subpart M of Part 922—Monterey Bay National Marine Sanctuary Boundary Coordinates

Coordinates listed in this Appendix are unprojected (Geographic) and based on the North American Datum of 1983.

Point ID No. | Latitude | Longitude
Seaward Boundary
1 | 37.88225 | −122.62753
2 | 37.66641 | −122.75105
3 | 37.61622 | −122.76937
4 | 37.57147 | −122.80399
5 | 37.52988 | −122.85988
6 | 37.50948 | −122.90614
7 | 37.49418 | −123.00770
8 | 37.50819 | −123.09617
9 | 37.52001 | −123.12879
10 | 37.45304 | −123.14009
11 | 37.34316 | −123.13170
12 | 37.23062 | −123.10431
13 | 37.13021 | −123.02864
14 | 37.06295 | −122.91261
15 | 37.03509 | −122.77639
16 | 36.92155 | −122.80595
17 | 36.80632 | −122.81564
18 | 36.69192 | −122.80539
19 | 36.57938 | −122.77416
20 | 36.47338 | −122.72568
21 | 36.37242 | −122.65789
22 | 36.27887 | −122.57410
23 | 36.19571 | −122.47699
24 | 36.12414 | −122.36527
25 | 36.06864 | −122.24438
26 | 36.02451 | −122.11672
27 | 35.99596 | −121.98232
28 | 35.98309 | −121.84069
29 | 35.98157 | −121.75634
30 | 35.92933 | −121.71119
31 | 35.83773 | −121.71922
32 | 35.72063 | −121.71216
33 | 35.59497 | −121.69030
34 | 35.55327 | −121.63048
35 | 35.55483 | −121.10399
36 | 37.59421 | −122.52001
37 | 37.61367 | −122.61673
38 | 37.76694 | −122.65011
39 | 37.81777 | −122.53008
Harbor Exclusions
40 | 37.49414 | −122.48483
41 | 37.49540 | −122.48576
42 | 36.96082 | −122.00175
43 | 36.96143 | −122.00112
44 | 36.80684 | −121.79145
45 | 36.80133 | −121.79047
46 | 36.60837 | −121.88970
47 | 36.60580 | −121.88965

8. Appendix B to Subpart M of Part 922 is revised to read as follows:

Appendix B to Subpart M of Part 922— Zones Within the Sanctuary Where Overflights Below 1000 Feet Are Prohibited

The four zones are:

(1) From mean high water to 3 nautical miles (nmi) offshore between a line extending from Point Santa Cruz on a southwesterly bearing of 220° true and a line extending from 2.0 nmi north of Pescadero Point on a southwesterly bearing of 240° true;

(2) From mean high water to 3 nmi offshore between a line extending from the Carmel River mouth on a westerly bearing of 270° true and a line extending due west along latitude parallel 35.55488 N off of Cambria;

(3) From mean high water and within a 5 nmi seaward arc drawn from a center point of 36.80129 N, 121.79034 W (the end of the Moss Landing ocean pier as it appeared on the most current NOAA nautical charts as of January 1, 1993); and

(4) Over the Sanctuary's jurisdictional waters of Elkhorn Slough east of the Highway One bridge to Elkhorn Road.

9. Appendix E to Subpart M of Part 922 is revised to read as follows:

Appendix E to Subpart M of Part 922— Motorized Personal Watercraft Zones and Access Routes Within the Sanctuary

[Coordinates in this appendix are unprojected (Geographic Coordinate System) and are calculated using the North American Datum of 1983]

The five zones and access routes are:

(1) The approximately one [1.0] nmi² area off Pillar Point Harbor from harbor launch ramps, through the harbor entrance to the northern boundary of Zone One:

Point ID No. | Latitude | Longitude
1 (flashing 5-second breakwater entrance light and horn located at the seaward end of the outer west breakwater) | 37.49395 | −122.48477
2 (bell buoy) | 37.48167 | −122.48333
3 | 37.48000 | −122.46667
4 | 37.49333 | −122.46667

(2) The approximately five [5.0] nmi² area off of Santa Cruz Small Craft Harbor from harbor launch ramps, through the harbor entrance, and then along a 100-yard wide access route southwest along a bearing of approximately 196° true (180° magnetic) to the red and white whistle buoy at 36.93833 N, 122.01000 W. Zone Two is bounded by:

Point ID No. | Latitude | Longitude
1 | 36.91667 | −122.03333
2 | 36.91667 | −121.96667
3 | 36.94167 | −121.96667
4 | 36.94167 | −122.03333

(3) The approximately six [6.0] nmi² area off of Moss Landing Harbor from harbor launch ramps, through harbor entrance, and then along a 100-yard wide access route southwest along a bearing of approximately 230° true (215° magnetic) to the red and white bell buoy at the eastern boundary of Zone Three bounded by:

Point ID No. | Latitude | Longitude
1 | 36.83333 | −121.82167
2 | 36.83333 | −121.84667
3 | 36.77833 | −121.84667
4 | 36.77833 | −121.81667
5 (red and white bell buoy) | 36.79833 | −121.80167
6 | 36.81500 | −121.80333

(4) The approximately five [5.0] nmi² area off of Monterey Harbor from harbor launch ramps to the seaward end of the U.S. Coast Guard Pier, and then along a 100-yard wide access route northeast along a bearing of approximately 15° true (0° magnetic) to the southern boundary of Zone Four bounded by:

Point ID No. | Latitude | Longitude
1 | 36.64500 | −121.92333
2 | 36.61500 | −121.87500
3 | 36.63833 | −121.85500
4 | 36.66667 | −121.90667

(5) The approximately one-tenth [0.10] nmi² area near Pillar Point from the Pillar Point Harbor entrance along a 100-yard wide access route southeast along a bearing of approximately 174° true (159° magnetic) to the green bell buoy (identified as “Buoy 3”) at 37.48154 N, 122.48156 W and then along a 100-yard wide access route northwest along a bearing of approximately 284° true (269° magnetic) to the green gong buoy (identified as “Buoy 1”) at 37.48625 N, 122.50603 W, the southwest boundary of Zone Five. Zone Five exists only when a High Surf Warning has been issued by the National Weather Service and is in effect for San Mateo County and only during December, January, and February. Zone Five is bounded by:

Point ID No. | Latitude | Longitude
1 (gong buoy identified as “Buoy 1”) | 37.48625 | −122.50603
2 | 37.49305 | −122.50603
3 (Sail Rock) | 37.49305 | −122.50105
4 | 37.48625 | −122.50105

[FR Doc. 2010-21878 Filed 8-31-10; 8:45 am]

BILLING CODE 3510-NK-P